DEPARTMENT OF LABOR

Employment and Training Administration

[TA-W-58,177]

Rexnord Disc Coupling Operation, Coupling Division Warren, PA; Notice of Affirmative Determination Regarding Application for Reconsideration

By application dated December 30, 2005, the International Association of Machinists and Aerospace Workers, Lodge No. 2304, (“the Union”) requested administrative reconsideration of the Department of Labor's Notice of Negative Determination Regarding Eligibility to Apply for Worker Adjustment Assistance, applicable to workers of the subject firm. The Department's determination was issued on December 16, 2005. The Department's Notice was published in the Federal Register on January 5, 2006 (71 FR 620).

The negative determination was based on the findings that company sales and production did not decline from 2003 through 2004, and January through October 2005 over the corresponding 2004 period. The determination also stated that the subject firm shifted plant production to Auburn, Alabama.

In the request for reconsideration, the Union alleges that the subject firm increased imports, is shifting production to China and bringing back the finished product.

The Department carefully reviewed the Union's request for reconsideration and has determined that the Department will conduct further investigation based on new information provided by the Union and a more careful analysis of the record.

Conclusion

After careful review of the application, I conclude that the claim is of sufficient weight to justify reconsideration of the Department of Labor's prior decision. The application is, therefore, granted.

Signed at Washington, DC, this 18th day of January 2006.
Elliott S. Kushner,
Certifying Officer, Division of Trade Adjustment Assistance.

[FR Doc. E6-1138 Filed 1-27-06; 8:45 am]

BILLING CODE 4510-30-P